DEPARTMENT OF HEALTH AND HUMAN SERVICES

Administration for Community Living

Agency Information Collection Activities: Submission for OMB Review; Comment Request; Alzheimer's Disease Supportive Services Program—Data Reporting Tool

AGENCY: Administration for Community Living, HHS.

ACTION: Notice.

SUMMARY: The Administration on Aging (AoA), Administration for Community Living (ACL) is announcing an opportunity to comment on the proposed collection of information by the agency. Under the Paperwork Reduction Act of 1995 (the PRA), Federal agencies are required to publish notice in the Federal Register concerning each proposed collection of information, including each proposed extension of an existing collection of information, and to allow 60 days for public comment in response to the notice. This notice collects comments on the information collection requirements relating to the continuation of an existing collection for the Alzheimer's Disease Supportive Services Program.

DATES: Submit written comments on the collection of information by August 16, 2013.

ADDRESSES: Submit written comments on the collection of information by email to Jane.Tilly@acl.hhs.gov

FOR FURTHER INFORMATION CONTACT: Jane Tilly 202.357.3438

SUPPLEMENTARY INFORMATION: The Alzheimer's Disease Supportive Services Program (ADSSP) is authorized through Sections 398, 399 and 399A of the Public Health Service (PHS) Act, as amended by Public Law 101-557 Home Health Care and Alzheimer's Disease Amendments of 1990. The ADSSP helps state efforts to expand the availability of community-level supportive services for persons with Alzheimer's disease and their caregivers, including underserved populations. In compliance with the PHS Act, ACL revised an ADSSP Data Reporting Tool (ADSSP-DRT) in 2010. The ADSSP-DRT collects information about the delivery of direct services by ADSSP state grantees, as well as basic demographic information about service recipients. This version includes some revisions to the approved 2010 version. The revised version would be in effect beginning 8/31/2013 and thereafter.

The proposed FY2013 ADSSP-DRT can be found on AoA's Web site at: http://www.aoa.gov/AoARoot/AoA_Programs/HPW/Alz_Grants/docs/ADSSP_DataCollectionReportingForm_proposed.xls.

ACL estimates the burden of this collection of information as follows:

Annual Burden Estimates
Instrument | Type of respondent | Number of respondents | Responses per respondent | Burden hours per response | Total burden hours (annual)
ADSSP Data Reporting Tool | Local Program Site | 60 | 2 | 5.8 | 696
ADSSP Data Reporting Tool | State Grantee | 30 | 2 | 8 | 480

Estimated Total Annual Burden Hours: 1176.

Dated: June 11, 2013.
Kathy Greenlee,
Administrator & Assistant Secretary for Aging.

[FR Doc. 2013-14189 Filed 6-14-13; 8:45 am]

BILLING CODE 4154-01-P